COMMISSION ON CIVIL RIGHTS

Sunshine Act Meeting

AGENCY: United States Commission on Civil Rights.

ACTION: Notice of meeting.

SUMMARY: In accordance with the Government in Sunshine Act (5 U.S.C. 552b), the Commission on Civil Rights is holding a meeting to discuss the Commission's business for the month of September.

DATES: Friday, September 22, 2023, 10 a.m. EST.

ADDRESSES: Meeting to take place virtually and is open to the public via livestream on the Commission's YouTube page: https://www.youtube.com/user/USCCR/videos.

FOR FURTHER INFORMATION CONTACT: Angelia Rorison: 202-376-8371; publicaffairs@usccr.gov.

SUPPLEMENTARY INFORMATION: This business meeting is open to the public. Computer assisted real-time transcription (CART) will be provided. The web link to access CART (in English) on September 22, 2023, is https://www.streamtext.net/player?event=USCCR. Please note that CART is text-only translation that occurs in real time during the meeting and is not an exact transcript.

Meeting Agenda

I. Approval of Agenda

II. Business Meeting

III. Discussion and Vote on 2024 USCCR Business Meeting Calendar

IV. Presentation by the Texas Advisory Committee Chair on Interim Report, Mental Healthcare in the Texas Juvenile Justice System

V. Management and Operations

• Staff Director's Report

VI. Adjourn Meeting

Dated: September 13, 2023.
Angelia Rorison,
USCCR Media and Communications Director.

[FR Doc. 2023-20237 Filed 9-14-23; 4:15 pm]

BILLING CODE 6335-01-P